DEPARTMENT OF TRANSPORTATION

Federal Aviation Administration

14 CFR Part 39

[Docket No. FAA-2010-1307; Directorate Identifier 2010-NM-049-AD; Amendment 39-16671; AD 2011-09-09]

RIN 2120-AA64

Airworthiness Directives; Bombardier, Inc. Model CL-600-2A12 (CL-601) and CL-600-2B16 (CL-601-3A, CL-601-3R, and CL-604 Variants) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system.

We are issuing this AD to require actions to correct the unsafe condition on these products.

DATES: This AD becomes effective August 19, 2011.

The Director of the Federal Register approved the incorporation by reference of certain publications listed in this AD as of August 19, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. That NPRM was published in the Federal Register on January 5, 2011 (76 FR 477). That NPRM proposed to correct an unsafe condition for the specified products. The MCAI states:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system. This directive mandates the revision of the approved maintenance schedule to include these new tasks, including phase-in schedules.

This revision clarifies the applicability of the directive for CL-600-2A12 aircraft, serial numbers 3001 through 3066, and for CL-600-2B16 aircraft, serial numbers 5001 through 5194. The directive is only applicable to these aircraft if Bombardier Service Bulletin (SB) 601-0590 [Scheduled Maintenance Instructions (MSG-3) Derived—Qualification] has been incorporated. There is no change required to the approved maintenance schedule if SB 601-0590 has not been incorporated.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 103 products of U.S. registry. We also estimate that it will take about 1 work-hour per product to comply with the basic requirements of this AD. The average labor rate is $85 per work-hour. Based on these figures, we estimate the cost of this AD to the U.S. operators to be $8,755, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-09-09 Bombardier, Inc.: Amendment 39-16671. Docket No. FAA-2010-1307; Directorate Identifier 2010-NM-049-AD.

Effective Date

(a) This airworthiness directive (AD) becomes effective August 19, 2011.

Affected ADs

(b) None.

Applicability

(c) This AD applies to the airplanes identified in paragraphs (c)(1), (c)(2), (c)(3), and (c)(4) of this AD; certificated in any category.

(1) Bombardier, Inc. Model CL-600-2A12 (CL-601) airplanes, serial numbers 3001 through 3066 inclusive on which Bombardier Service Bulletin 601-0590 has been accomplished.

(2) Bombardier, Inc. CL-600-2B16 (CL-601-3A and CL-601-3R Variants) airplanes, serial numbers 5001 through 5194 inclusive on which Bombardier Service Bulletin 601-0590 has been accomplished.

(3) Bombardier, Inc. CL-600-2B16 (CL-604 Variants) airplanes, serial numbers 5301 through 5665 inclusive.

(4) Bombardier, Inc. CL-600-2B16 (CL-604 Variants) airplanes, serial numbers 5701 and subsequent.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued operational safety of the airplane.

Subject

(d) Air Transport Association (ATA) of America Codes 30 and 36: Ice and Rain Protection and Pneumatic, respectively.

Reason

(e) The mandatory continuing airworthiness information (MCAI) states:

During flight-testing of a wing anti-ice piccolo tube containing a deliberate small breach, it was determined that the wing leading edge thermal switches were not detecting the consequent bleed leak at the design threshold. As a result, new Airworthiness Limitation tasks, consisting of a functional test of the wing leading edge thermal switches and an inspection of the wing anti-ice duct piccolo tubes, have been introduced in order to limit exposure to dormant failure of the switches in the event of piccolo tube failure, which could potentially compromise the structural integrity of the wing leading edge and the effectiveness of the wing anti-ice system.

Compliance

(f) You are responsible for having the actions required by this AD performed within the compliance times specified, unless the actions have already been done.

Actions

(g) Within 30 days after the effective date of this AD: Revise the Airworthiness Limitations Section of the Instructions for Continued Airworthiness by incorporating the applicable tasks identified in table 1 of this AD.

Table 1—Airworthiness Limitations Tasks
For Bombardier, Inc. model— | Incorporate task(s)— | Identified in—
CL-600-2A12 (CL-601) airplanes, serial numbers 3001 through 3066 inclusive on which Bombardier Service Bulletin 601-0590 has been accomplished | 30-11-00-101, Wing Anti-icing, and 30-11-00-102, Wing Anti-icing | Bombardier Challenger 601 Time Limits/Maintenance Checks, PSP 601-5, Revision 38, dated June 19, 2009.
CL-600-2B16 (CL-601-3A and CL-601-3R Variants) airplanes, serial numbers 5001 through 5194 inclusive on which Bombardier Service Bulletin 601-0590 has been accomplished | 30-11-00-101, Wing Anti-icing, and 30-11-00-102, Wing Anti-icing | Bombardier Challenger 601 Time Limits/Maintenance Checks, PSP 601A-5, Revision 34, dated June 19, 2009.
CL-600-2B16 (CL-604 Variants) airplanes, serial numbers 5301 through 5665 inclusive | 30-11-00-101, Detailed Inspection of the Wing Anti-Ice Duct Piccolo-Tube, and 36-21-00-101, Functional Test of the Leading Edge Thermal Switches | Bombardier Challenger 604 Time Limits/Maintenance Checks, CH 604 TLMC, Revision 13, dated August 12, 2009.
CL-600-2B16 (CL-604 Variants) airplanes, serial numbers 5701 and subsequent | 30-11-00-101, Detailed Inspection of the Wing Anti-Ice Duct Piccolo-Tube, and 36-21-00-101, Functional Test of the Leading Edge Thermal Switches | Bombardier Challenger 605 Time Limits/Maintenance Checks, CH 605 TLMC, Revision 1, dated August 12, 2009.

(h) For all tasks identified in paragraph (g) of this AD, the initial compliance times for those tasks are within the applicable times specified in table 2 of this AD.

Table 2—Initial Compliance Times for Airworthiness Limitations Tasks
Bombardier, Inc. model— | Task(s)— | Initial compliance time (whichever occurs later)— |
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-101, Wing Anti-icing | Prior to the accumulation of 4,800 total flight hours; or within 4,800 flight hours after accomplishing Task 30-11-06-204 in Section 5-20-15 of the applicable Time Limits/Maintenance Checks manual specified in table 1 of this AD; whichever occurs later | Within 240 flight hours after the effective date of this AD.
CL-600-2A12 (CL-601) airplanes, serial numbers 3001 through 3066 inclusive; and CL-600-2B16 (CL-601-3A and CL-601-3R Variants) airplanes, serial numbers 5001 through 5194 inclusive; on which Bombardier Service Bulletin 601-0590 has been accomplished | 30-11-00-102, Wing Anti-icing | Prior to the accumulation of 4,800 total flight hours; or within 4,800 flight hours after accomplishing Task 30-13-00-205 in Section 5-20-15 of the applicable Time Limits/Maintenance Checks manual specified in table 1 of this AD; whichever occurs later | Within 240 flight hours after the effective date of this AD.
CL-600-2B16 (CL-604 Variants) airplanes, serial numbers 5301 through 5665 inclusive | 30-11-00-101, Detailed Inspection of the Wing Anti-Ice Duct Piccolo-Tube, and 36-21-00-101, Functional Test of the Leading Edge Thermal Switches | Prior to the accumulation of 6,400 total flight hours; except for airplanes having 6,400 total flight hours or more as of the effective date of this AD on which the task has not been accomplished: prior to the next scheduled 6,400 flight hour task inspection or prior to the next scheduled accomplishment of Task 57-10-00-208 in the applicable Time Limits/Maintenance Checks manual specified in table 1 of this AD, whichever occurs first | Within 320 flight hours after the effective date of this AD.
CL-600-2B16 (CL-604 Variants) airplanes, serial numbers 5701 and subsequent | 30-11-00-101, Detailed Inspection of the Wing Anti-Ice Duct Piccolo-Tube, and 36-21-00-101, Functional Test of the Leading Edge Thermal Switches | Prior to the accumulation of 6,400 total flight hours | Within 320 flight hours after the effective date of this AD.

(i) After accomplishing the actions required by paragraph (g) of this AD, no alternative tasks or task intervals may be used unless the tasks or task intervals are approved as an alternative method of compliance (AMOC) in accordance with the procedures specified in paragraph (j)(1) of this AD.

FAA AD Differences

Note 2: This AD differs from the MCAI and/or service information as follows: No differences.

Other FAA AD Provisions

(j) The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI Canadian Airworthiness Directive CF-2009-49R1, dated January 21, 2010, and the service information specified in Table 1 of this AD, for related information.

Material Incorporated by Reference

(l) You must use the applicable service information contained in table 3 of this AD to do the actions required by this AD, unless the AD specifies otherwise.

Table 3—Material Incorporated by Reference
Document | Revision | Date
Tasks 30-11-00-101, Wing Anti-icing, and 30-11-00-102, Wing Anti-icing, of the Bombardier Challenger 601 Time Limits/Maintenance Checks, PSP 601-5 | 38 | June 19, 2009.
Tasks 30-11-00-101, Wing Anti-icing, and 30-11-00-102, Wing Anti-icing, of the Bombardier Challenger 601 Time Limits/Maintenance Checks, PSP 601A-5 | 34 | June 19, 2009.
Tasks 30-11-00-101, Detailed Inspection of the Wing Anti-Ice Duct Piccolo-Tube, and 36-21-00-101, Functional Test of the Leading Edge Thermal Switches, of the Bombardier Challenger 604 Time Limits/Maintenance Checks, CH 604 TLMC | 13 | August 12, 2009.
Tasks 30-11-00-101, Detailed Inspection of the Wing Anti-Ice Duct Piccolo-Tube, and 36-21-00-101, Functional Test of the Leading Edge Thermal Switches, of the Bombardier Challenger 605 Time Limits/Maintenance Checks, CH 605 TLMC | 1 | August 12, 2009.

The title pages of these documents do not indicate the revision level or issue date of the documents. Only the Record of Revisions of these documents contains the revision level of these documents.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 13, 2011.
Ali Bahrami,
Manager,Transport Airplane Directorate,Aircraft Certification Service.

[FR Doc. 2011-17402 Filed 7-14-11; 8:45 am]

BILLING CODE 4910-13-P